ENVIRONMENTAL PROTECTION AGENCY

[ER-FRL-6663-1]

Environmental Impacts Statements; Notice of Availability

Responsible Agency: Office of Federal Activities, General Information (202) 564-7167 or http://www.epa.gov/compliance/nepa/

Weekly receipt of Environmental Impact Statements

Filed 04/25/2005 Through 04/29/2005

Pursuant to 40 CFR 1506.9.

EIS No. 20050175, Draft EIS, FHW, CA, Campus Parkway Project, Proposes to Construct a New Expressway from Mission Avenue Interchange and Yosemite Avenue/Lake Road, US Army COE Section 404 Permit, City of Merced, Merced County, CA, Comment Period Ends: 07/05/2005, Contact: Mahfoud Licha 916-498-5866

EIS No. 20050176, Draft EIS, FAA, AK, Juneau International Airport, Proposed Development Activities to Enhance Operations Safety, Facilitate Aircraft Alignment, US Army COE Section 404 Permit, City and Borough of Juneau, AK, Comment Period Ends: 06/20/2005, Contact: Patti Sullivan 907-271-5454

EIS No. 20050177, Draft EIS, AFS, AZ, Coconino National Forest Project, Re-authorize Grazing on the Pickett Lake and Padre Canyon Allotments, Implementation, Mormon Lake Range District, Coconino County, AZ, Comment Period Ends: 06/20/2005, Contact: Mike Hanneman 928-526-0866

EIS No. 20050178, Final EIS, FHW, LA, I-49 South Lafayette Regional Airport to LA-88 Route US-90 Project, Upgrading Existing US-90 from the Lafayette Regional Airport to LA-88, Funding, Iberia, Lafayette and St. Martin Parishes, LA, Wait Period Ends: 06/13/2005, Contact: William C. Farr 225-757-7615

EIS No. 20050179, Draft Supplement EIS, AFS, MT, Gallatin National Forest, Updated Information, Main Boulder Fuels Reduction Project, Implementation, Gallatin National Forest, Big Timber Ranger District, Big Timber, Sweethgrass and Park Counties, MT, Comment Period Ends: 06/20/2005, Contact: Barbara Ping 406-522-2558

EIS No. 20050180, Draft Supplement EIS, AFS, ID, Mission Brush Project, Additional Information, Proposes Vegetation, Wildlife Habitat, Recreation and Aquatic Improvement Treatments, Idaho Panhandle National Forests, Bonners Ferry Ranger District, Bounty County, ID, Comment Period Ends: 06/20/2005, Contact: Doug Nisherk 208-267-5561

EIS No. 20050181, Draft EIS, FHW, MO, MO-34 Corridor Improvements, from intersection of U.S. Routes 60/21 in Carter County to the intersection of Routes 34/72 in Cape Girardeau County, Funding, U.S. Army COE Section 404 Permit, Carter, Bollinger, Reynolds, Wayne, and Cape Girardeau Counties, MO, Comment Period Ends: 06/24/2005, Contact: Peggy Casey 573-636-7104

EIS No. 20050182, Draft EIS, FRC, CO, Piceance Basin Expansion Project, Construction and Operation of a New Interstate Natural Gas Pipeline System, Wamsutter Compressor Station to Interconnections Greasewood Compressor Station, Rio Blanco County CO and Sweetwater County, WY, Comment Period Ends: 06/20/2005, Contact: Joyce Turner 202-502-8008

EIS No. 20050183, Final EIS, NOA, HI, Seabird Interaction Mitigation Methods, To Reduce Interaction with Seabird in Hawaii-Based Longline Fishery and Pelagic Squid Fishery Management, to Establish an Effective Management Framework for Pelagic Squid Fisheries, Fishery Management Plan, Pelagic Fisheries of the Western Pacific Region, Exclusive Economic Zone of the U.S. and High Sea, HI, Wait Period Ends: 06/06/2005, Contact: Alvin Katekaru 808-973-2937

EIS No. 20050184, Final EIS, NOA, AK, Essential Fish Habitat Identification and Conservation, Implementation, North Pacific Fishery Management Council, Magnuson-Stevens Fishery Conservation and Management Act, AK, Wait Period Ends: 06/06/2005, Contact: James W. Balsiger 907586-7636

Amended Notices

EIS No. 20050174, DRAFT EIS, FHW, CO, I-25 Valley Highway Project, Transportation Improvement from Logan to U.S. 6, Denver County, CO, Comment Period Ends: June 14, 2005, Contact: Chris Horn (720) 963-3017. Revision of Federal Register Notice Published on 4/29/2005: Correction to the County from Douglas to Denver.

Dated: May 3, 2005.
Robert W. Hargrove,
Director, NEPA Compliance Division, Office of Federal Activities.

[FR Doc. 05-9119 Filed 5-5-05; 8:45 am]

BILLING CODE 6560-50-P